DEPARTMENT OF THE INTERIOR

Bureau of Land Management

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will participate in a field tour of BLM-administered public lands on Friday, September 23, 2005, from 7:30 a.m. to 5 p.m., and meet in formal session on Saturday, September 24 from 8 a.m. to 5 p.m. at the Baker Community Center, located at 56725 Park Avenue in Baker.

The Council and interested members of the public will depart for a field tour at 7:30 a.m. from the Desert Studies Center at Zzyzx. The public is welcome to participate in the tour, but should plan on providing their own transportation, drinks, and lunch. Tour stops and presentations and meeting agenda topics will be announced later.

SUPPLEMENTARY INFORMATION: All Desert District Advisory Council meetings are open to the public. Time for public comment may be made available by the Council Chairman during the presentation of various agenda items, and is scheduled at the end of the meeting for topics not on the agenda. Public comment for items not on the agenda will be scheduled at the beginning of the meeting Saturday morning.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: Doran Sanchez, BLM California Desert District Public Affairs Specialist (951) 697-5220.

Dated: July 26, 2005.
Linda Hansen,
District Manager.

[FR Doc. 05-15482 Filed 8-4-05; 8:45 am]

BILLING CODE 4310-40-P